DEPARTMENT OF THE INTERIOR

National Park Service

[N6536; NPS-WASO-NAGPRA-NPS0041089; PPWOCRADN0-PCU00RP14.R50000]

Notice of Inventory Completion: Tennessee Department of Environment and Conservation, Division of Archaeology, Nashville, TN, and Cobb Institute of Archaeology, Mississippi State University, Mississippi State, MS

AGENCY: National Park Service, Interior.

ACTION: Notice.

SUMMARY: In accordance with the Native American Graves Protection and Repatriation Act (NAGPRA), the Tennessee Department of Environment and Conservation, Division of Archaeology (TDEC-DOA) and the Mississippi State University (MSU), Cobb Institute of Archaeology, has completed an inventory of human remains and associated funerary objects from Hawkins County, TN and has determined that there is a cultural affiliation between the human remains and associated funerary objects and Indian Tribes or Native Hawaiian organizations in this notice.

DATES: Repatriation of the human remains and associated funerary objects in this notice may occur on or after October 16, 2025.

ADDRESSES: Send written requests for repatriation of the human remains and associated funerary objects in this notice to Phillip R. Hodge, Tennessee Department of Environment and Conservation, Division of Archaeology (TDEC-DOA), 1216 Foster Avenue, Cole Building #3, Nashville, TN 37243, email Phil.Hodge@tn.gov, and Tony Boudreaux, Mississippi State University (MSU), Cobb Institute of Archaeology, P.O. Box AR, Mississippi State, MS 39762, email tboudreaux@anthro.msstate.edu.

SUPPLEMENTARY INFORMATION: This notice is published as part of the National Park Service's administrative responsibilities under NAGPRA. The determinations in this notice are the sole responsibility of the TDEC-DOA and MSU, and additional information on the determinations in this notice, including the results of consultation, can be found in its inventory or related records. The National Park Service is not responsible for the determinations in this notice.

Abstract of Information Available

Human remains representing, at least, 17 individuals and 25 associated funerary objects have been identified. There is no known exposure to hazardous substances or treatments.

Site 40HW11, Hawkins County, TN

A large Mississippian period cemetery at 40HW11 was excavated by members of the Tennessee Archaeological Society between 1968 and 1972. Both ancestral remains and funerary objects entered the private collections of excavators.

Ancestral remains associated with this site include, at least, 17 individuals. The 25 associated funerary objects consist of four marine shell ear pins; two triangular stones; two bi-pointed bone awls; one serrated chert arrow point; one blank marine shell gorget; and one Citico style marine shell gorget; and 14 lots of artifacts including fauna, lithics, shell beads, mica, ceramic, and wood.

Human remains of 14 individuals entered TDEC-DOA care as follows: (a) Remains of at least five individuals were donated to TDEC-DOA in 1990 by the Sheriff of Brunswick County, NC after seizure from a private individual; (b) Remains of at least two individuals were donated to TDEC-DOA by a private individual in 1991; (c) Remains of at least one individual were donated to TDEC-DOA by East Tennessee State University in 2019; (d) Remains of at least six individuals and five lots of artifacts were donated to TDEC-DOA by East Tennessee State University in 2023; and (e) 19 associated funerary objects were donated to Bays Mountain Natural Area by private individuals in 1971 and transferred to TDEC-DOA in 2022.

Human remains of three individuals entered MSU care as follows: Remains of at least two individuals were donated by a private citizen of Columbus, Mississippi in 1999. Remains of at least one individual and one lot of associated funerary objects was transferred to MSU through an undocumented loan from East Tennessee State University.

Cultural Affiliation

Based on the information available and the results of consultation, cultural affiliation is reasonably identified by the geographical location or acquisition history of the human remains and associated funerary objects described in this notice.

Determinations

The TDEC-DOA and MSU has determined that:

• The human remains described in this notice represent the physical remains of 17 individuals of Native American ancestry.

• The 25 associated funerary objects described in this notice are reasonably believed to have been placed intentionally with or near individual human remains at the time of death or later as part of the death rite or ceremony.

• There is a connection between the human remains and associated funerary objects described in this notice and the Cherokee Nation; Eastern Band of Cherokee Indians; The Muscogee (Creek) Nation; Thlopthlocco Tribal Town; and the United Keetoowah Band of Cherokee Indians in Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after October 16, 2025. If competing requests for repatriation are received, the TDEC-DOA and MSU must determine the most appropriate requestor prior to repatriation. Requests for joint repatriation of the human remains and associated funerary objects are considered a single request and not competing requests. The TDEC-DOA and MSU is responsible for sending a copy of this notice to the Indian Tribes and Native Hawaiian organizations identified in this notice.

(Authority: Native American Graves Protection and Repatriation Act, 25 U.S.C. 3003, and the implementing regulations, 43 CFR 10.10.)

Dated: September 4, 2025.
Melanie O'Brien,
Manager, National NAGPRA Program.

[FR Doc. 2025-17881 Filed 9-15-25; 8:45 am]

BILLING CODE 4312-52-P